DEPARTMENT OF COMMERCE

National Institute of Standards and Technology

National Conference on Weights and Measures: Annual Meeting

AGENCY: National Institute of Standards and Technology, Commerce.

ACTION: Notice of public meeting of the Conference in July 2006.

SUMMARY: The Annual Meeting of the 91st National Conference on Weights and Measures (NCWM) will be held July 9 to 13, 2006, in Chicago, Illinois. This meeting is open to the public. Detailed meeting agendas and information on registration requirements, fees and hotel information can be found at http://www.ncwm.net. The NCWM is an organization of weights and measures officials of the states, counties, and cities of the United States, Federal Agencies, and private sector representatives. This meeting brings together government officials and representatives of business, industry, trade associations, and consumer organizations to consider subjects related to the field of weights and measures technology, administration, and enforcement. Pursuant to (15 U.S.C. 272(b)(6)), the National Institute of Standards and Technology supports the National Conference on Weights and Measures in order to promote uniformity among the States in the complexity of laws, regulations, methods, and testing equipment that comprises regulatory control by the states of commercial weighing and measuring.

Publication of this notice by the NIST on the NCWM's behalf is being undertaken as a public service; NIST does not necessarily endorse, approve, or recommend any of the proposals contained in the notice.

DATES: July 9-13, 2006.

ADDRESSES: The Chicago Marriott, Chicago, Illinois.

SUPPLEMENTARY INFORMATION: The NCWM has the following topics scheduled for discussion and development at its Annual Meeting. At this stage, the items are proposals. This meeting includes work sessions in which Committees take public comments and finalize recommendations for possible adoption at the meeting.

Committees may also withdraw or carryover items that need additional development. Please see NCWM Publication 16, which is available on the NCWM Web site at http://www.ncwm.net for additional information. The following are brief descriptions of some significant agenda items that will be considered at the meeting. Comments will be taken on these items during the public comment sessions to be held at the meeting.

The Specifications and Tolerances Committee will consider proposed amendments to NIST Handbook 44, “Specifications, Tolerances, and Other Technical Requirements for Weighing and Measuring Devices (NIST Handbook 44).” Those items address weighing and measuring devices that may be used in commercial measurement applications, that is, devices that are normally used to buy from or sell to the general public or used for determining the quantity of products sold among businesses. Issues on the agenda of the NCWM Laws and Regulations Committee relate to proposals to amend NIST Handbook 130, “Uniform Laws and Regulations in the area of legal metrology and engine fuel quality (NIST Handbook 130).” This notice contains information about significant items on the NCWM Committee agendas, and they are not presented in consecutive order.

NCWM Specifications and Tolerances Committee

The following items are proposals to amend NIST Handbook 44.

General Code

Item 310-1. Software for Not-Built for Purpose Devices: This is a proposal to require manufacturers to display information on the version of software that is currently in use in a commercial measuring device.

Scales Code

Item 320-1. Zero Indication; Requirements for Markings or Indications for Other than Digital Zero Indications: This proposal would clarify the requirement's original intent for marking zero indications on scales and point-of-sale systems where a zero is represented by other than a digital indication of zero.

Item 320-3. Revise Shift Test for Scales: This proposal would modify requirements for the placement of test weights and test loads on weighing devices.

Item 320-4. Minimum Test Weights and Test Loads for Scales: This proposal would modify requirements for the minimum amount of test weights and test loads that must be used to verify the accuracy of commercial weighing devices.

Item 320-6. Time Dependence Tests: This is a proposal to align the type approval requirements for the time dependence (creep) test for scales and load cells with OIML requirements.

Item 320-8. Computing Scale Interfaced to an Electronic Cash Register (ECR): This proposal is intended to clarify requirements for computing scales with ECRs and to specify how each component must display transaction information, function in taking tare, and operate with Price-Look-Up (PLU) capability.

Item 320-9. Vehicle Scale Approaches: This is a proposal to clarify that vehicle scales may have one or more approaches to allow vehicles to move onto and off of the load receiving elements.

Item 320-11. Acceptable International Symbols: This is a proposal to include a list of accepted international symbols for marking operational controls, indications and features on scales in NIST Handbook 44.

Belt-Conveyor Scale Systems

Item 321-1. Official and As-found Tests: This is a proposal to improve the accuracy of these weighing systems by encouraging users to conduct random as-found tests and to improve their recordkeeping concerning scale maintenance and performance.

Liquid-Measuring Devices

Item 330-4. Diversion of Measured Flow: This is a proposal to revise requirements for valves and piping on liquid measuring devices so that they are consistent throughout NIST Handbook 44.

Cryogenic Liquid Measuring Devices

Item 334-1. Provision for Security Seals: This is a proposal to add a requirement that these meters have electronic security seals.

NCWM Laws and Regulations Committee

The following item is a proposal to amend NIST Handbook 130.

Method of Sale of Commodities Regulation

Item 232-2. Biodiesel and Fuel Ethanol Labeling: This item requires the identification and labeling of biodiesel fuels and blends at retail service stations.

FOR FURTHER INFORMATION CONTACT: Carol Hockert, Chief, NIST, Weights and Measures Division, 100 Bureau Drive, Stop 2600, Gaithersburg, MD 20899-2600. Telephone (301) 975-5507, or e-mail: Carol.Hockert@nist.gov.

Dated: June 19, 2006.
Hratch G. Semerjian,
Deputy Director.

[FR Doc. E6-10098 Filed 6-26-06; 8:45 am]

BILLING CODE 3510-13-P